DEPARTMENT OF THE INTERIOR

Bureau of Land Management

[LLCO956000 L14400000.BJ0000]

Notice of Filing of Plats of Survey; Colorado

AGENCY: Bureau of Land Management, Interior.

ACTION: Notice of Filing of Plats of Survey; Colorado

SUMMARY: The Bureau of Land Management (BLM) Colorado State Office is publishing this notice to inform the public of the official filing of the survey plats listed below. The plats will be available for viewing at http://www.glorecords.blm.gov.

DATES: The plats described in this notice were filed on April 17, 2015.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The supplemental plat of section 20 in Township 13 South, Range 90 West, Sixth Principal Meridian, Colorado, was accepted on April 16, 2015, and filed on April 17, 2015.

The supplemental plat of sections 25, 35, and 36 in Township 13 South, Range 90 West, Sixth Principal Meridian, Colorado, was accepted on April 16, 2015, and filed on April 17, 2015.

Randy Bloom,
Chief Cadastral Surveyor for Colorado.

[FR Doc. 2015-10462 Filed 5-4-15; 8:45 am]

BILLING CODE 4310-JB-P